DEPARTMENT OF THE TREASURY

Agency Information Collection Activities; Submission for OMB Review; Comment Request; Multiple Tax & Trade Bureau Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before June 30, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Alcohol and Tobacco Tax and Trade Bureau (TTB)

1. Title: Authorization to Furnish Financial Information and Certificate of Compliance.

OMB Control Number: 1513-0004.

Type of Review: Extension without change of a currently approved collection.

Description: Under its statutory and regulatory authorities, during an alcohol or tobacco permit investigation, the Alcohol and Tobacco Tax and Trade Bureau (TTB) may require such applicants to show that they have the financial standing necessary to conduct their operations in compliance with Federal law. However, the Right to Financial Privacy Act of 1978 (the Act; 12 U.S.C. 3401 et seq.) limits the Federal Government's access to the records of individuals held by financial institutions. The Act provides that a person may authorize a financial institution to disclose their individual records to a Federal agency, but it also requires the agency to certify to the institution that the agency has complied with the Act. To meet the Act's requirements, a permit applicant uses TTB F 5030.6, Authorization to Furnish Financial Information and Certificate of Compliance, to authorize a financial institution to disclose their individual records to TTB, and TTB uses the form to certify to the institution that the agency has complied with the Act.

Form: TTB F 5030.6.

Affected Public: Businesses or other for-profits.

Estimated Number of Respondents: 10.

Frequency of Response: On Occasion.

Estimated Total Number of Annual Responses: 10.

Estimated Time per Response: 20 minutes.

Estimated Total Annual Burden Hours: 3.

2. Title: Records Supporting Drawback Claims on Eligible Articles Brought into the United States from Puerto Rico or the Virgin Islands (TTB REC 5530/3).

OMB Control Number: 1513-0089.

Type of Review: Extension without change of a currently approved collection.

Description: Under the Internal Revenue Code (IRC) at 26 U.S.C. 7652(g), the provisions of 26 U.S.C. 5111-5114 providing for drawback (refund) of Federal excise taxes paid on distilled spirits used in certain nonbeverage products—medicines, medicinal preparations, food products, flavors, flavoring extracts, and perfumes—also apply to such articles brought into the United States from Puerto Rico or the U.S. Virgin Islands. In particular, 26 U.S.C. 5112 requires nonbeverage product drawback claimants to keep the records necessary to document the information provided in such claims, subject to regulations prescribed by the Secretary of the Treasury. Based on those IRC authorities, the TTB regulations at 27 CFR 26.174 and 26.310 require persons making nonbeverage product drawback claims on eligible articles brought into the United States from Puerto Rico or the U.S. Virgin Islands to keep certain business, formula, and taxpayment records documenting the data regarding the distilled spirits and articles in question provided in such claims. Those persons must maintain the required records at their business premises for at least 3 years, during which time TTB may inspect the records to verify the data provided in their claims. TTB's verification of such nonbeverage product drawback claims is necessary to protect the revenue and ensure compliance with relevant statutory and regulatory requirements.

Form: None.

Affected Public: Businesses or other for-profits.

Estimated Number of Respondents: 10.

Frequency of Response: On Occasion.

Estimated Total Number of Annual Responses: 10.

Estimated Time per Response: 1 hour.

Estimated Total Annual Burden Hours: 10.

3. Title: Beer for Exportation.

OMB Control Number: 1513-0114.

Type of Review: Extension without change of a currently approved collection.

Description: Under the Internal Revenue Code (IRC) at 26 U.S.C. 5051, Federal excise tax is imposed on beer removed from domestic breweries for consumption or sale. However, under the IRC at 26 U.S.C. 5053, brewers may remove beer without payment of tax for export purposes, subject to regulations prescribed by the Secretary of the Treasury. As such, the TTB regulations in 27 CFR part 28 allow brewers to remove beer without payment of tax for export to a foreign county, use as supplies on certain vessels or aircraft, transfer to a foreign trade zone for export, or shipment to U.S. armed forces stationed overseas. Those regulations also require brewers to give notice of each such removal on form TTB F 5130.12. Or, brewers may apply to TTB to use an alternative procedure to report beer removed for export purposes via a monthly summary report, provided that the brewer completes the notification section of TTB F 5130.12 for each removal and maintains the form and the related supporting export verification records at their premises. This collection request is necessary to protect the revenue as TTB uses the required information to account for beer removed without payment of tax for export purposes and ensure that such beer is not diverted into the taxable domestic market.

Form: TTB F 5130.12.

Affected Public: Businesses or other for-profits.

Estimated Number of Respondents: 4,400.

Frequency of Response: On Occasion.

Estimated Total Number of Annual Responses: 4,400.

Estimated Time per Response: 2 hours, 23 minutes.

Estimated Total Annual Burden Hours: 10,500.

(Authority: 44 U.S.C. 3501 et seq.)

Spencer W. Clark,
Treasury PRA Clearance Officer.

[FR Doc. 2022-11639 Filed 5-27-22; 8:45 am]

BILLING CODE 4810-31-P